DEPARTMENT OF JUSTICE

Antitrust Division

Notice Pursuant to the National Cooperative Research and Production Act of 1993—Naval Aviation Systems Consortium

Notice is hereby given that, on July 9, 2021, pursuant to Section 6(a) of the National Cooperative Research and Production Act of 1993, 15 U.S.C. 4301 et seq. (“the Act”), Naval Aviation Systems Consortium, a division of Consortium Management Group, Inc. (“NASC”) has filed written notifications simultaneously with the Attorney General and the Federal Trade Commission disclosing changes in its membership. The notifications were filed for the purpose of extending the Act's provisions limiting the recovery of antitrust plaintiffs to actual damages under specified circumstances. Specifically, 1901 Group, LLC, Reston, VA; 5 Stones Technologies Inc., Temecula, CA; A.T. Kearney Public Sector and Defense Services, LLC, Arlington, VA; AASKI Technology, Tinton Falls, NJ; Accelerated Knowledge Transfer Optimize LLC, Cumming, GA; ACS, LLC, Lexington Park, MD; Acutronic USA Inc., Pittsburg, PA; Adamo Security Group, Lakeside, CA; Adranos, Inc., West Lafayette, IN; Advanced Simulation Technology Inc. (ASTi), Herndon, VA; Advantaged Solutions, Inc., Washington, DC; Aeroflex Wichita, Inc., Wichita, KS; Aerojet Rocketdyne Inc., Huntsville, AL; Aerovision LLC, West Palm Beach, FL; Affordable Engineering Services, San Diego, CA; Agile Decision Sciences, LLC, Huntsville, AL; AGOGE, Hailey, ID; Air Combat Effectiveness Consulting Group, LLC, Lexington Park, MD; AIRBUS U.S. Space & Defense, Inc., Herndon, VA; ALOFT AeroArchitects, Georgetown, DE; AMEWAS Incorporated, California, MD; Apogee Applied Research, Inc., Beavercreek, OH; Applied Insight, LLC, Vienna, VA; Applied Minds, LLC, Burbank, CA; Applied Research Associates, Inc., Raleigh, NC; Arcturus UAV, Inc., Petaluma, CA; Areté, Arlington, VA; ARGO Cyber Systems, LLC, Pensacola, FL; Ascent Vision Technologies, LLC, Belgrade, MT; AT&T Corporation, Oakton, VA; ATC—The Aluminum Trailer Company, Nappanee, IN; Attila Security, Columbia, MD; Auterion Government Solutions Inc., Moorpark, CA; Aviation System Engineering Company, Lexington Park, MD; AVX Aircraft Company, Benbrook, TX; Ayon Cybersecurity, Inc. d/b/a VDC, Cocoa, FL; BahFed Corp, Portland, OR; Ball Aerospace, Westminster, CO; Bascom Hunter, Baton Rouge, LA; Battelle Memorial Institute, Columbus, OH; Beachcomber Fiberglass Tech Inc., Stuart, FL; Becker Trailers LLC, West Salem, WI; Black Sage, Boise, ID; BlackHays Group LLC, Cedar Point, NC; Bohemia Interactive Simulations, Orlando, FL; Boston Consulting Group, Bethesda, MD; Bowhead Manufacturing Technologies, Plano, TX; Bowie State University, Bowie, MD; Bracari, LLC, Mount Pleasant, SC; Bright Apps LLC, Walnut Creek, CA; Bugeye Technologies, Inc., Union, MO; C² Technologies, Vienna, VA; Charles River Analytics, Cambridge, MA; Chartis Federal, McLean, VA; Clear-Com LLC, Alameda, CA; Clinkenbeard, South Beloit, IL; Cobalt Speech and Language, Inc., Tyngsboro, MA; Cobham Mission Systems, Davenport, IA; Cogito Innovations, LLC, Lexington Park, MD; Cole Engineering Services, Inc., Orlando, FL; College of Southern Maryland, La Plata, MD; Compass Systems Inc., Lexington Park, MD; Cordin Company, Salt Lake City, UT; Corsair Engineering, Inc., Kirkland, WA; CP Technologies, LLC, San Diego, CA; CPI Aero, Inc., Edgewood, NY; Cronos Consulting Group, San Diego, CA; Cross Domain Systems, Inc., Newport Beach, CA; CSEngineering, Annapolis, MD; CymSTAR, LLC, Broken Arrow, OK; Cypher, LLC, Leesburg, VA; Cypress International, Alexandria, VA; Dark Wolf Solutions, LLC, Herndon, VA; Digital Design & Imaging Service, Inc., Falls Church, VA; Digital Receiver Technology, Inc., Germantown, MD; DLT Solutions, Herndon, VA; Dragonfly Pictures Inc., Essington, PA; DRS Systems, Inc., Melbourne, FL; Dynovis, Inc., Fairfield, VA; Emergency Landing Pad LLC, Pensacola, FL; Equinox Innovative Systems, Columbia, MD; Erickson Incorporated, Portland, OR; EXB Solutions Inc., Minneapolis, MN; EXEPRON, Palm Beach Gardens, FL; FAAC Incorporated, Ann Arbor, MI; Fabrisonic LLC, Columbus, OH; Federal Industries, Inc., El Segundo, CA; Flightdocs, Inc., Bonita Springs, FL; FlightSafety International, Broken Arrow, OK; FLIR Systems, Arlington, VA; Frequency Electronics, Inc., Uniondale, NY; Galaxy Unmanned Systems LLC, Arlington, TX; GaN Corporation, Huntsville, AL; GE Research, Schenectady, NY; General Atomics Aeronautical Systems Inc., Poway, CA; George Consulting, Ltd., Daniel Island, SC; Gnostech, LLC, Warminster, PA; Govini, Arlington, VA; GSD, LLC, Williamsburg, VA; Hardwire, LLC, Pocomoke City, MD; Helicon Chemical Company, Orlando, FL; Helix Group, LLC, Alamo, CA; IBC Materials & Technologies, Lebanon, IN; IDEMIA National Security Solutions, Alexandria, VA; Innovative Emergency Management, Inc., Morrisville, NC; Inova Drone Inc., San Diego, CA; Intelligent Fusion Technology, Inc., Germantown, MD; Invictus Global Services, Inc., White Salmon, WA; IT Partners, Inc., Herndon, VA; ITC Defense, Arlington, VA; iWorks Corporation, McLean, VA; JAKTOOL LLC, Cranbury, NJ; JEM Engineering, Laurel, MD; Jetoptera, Inc., Edmonds, WA; Key Cyber Solutions, Richmond, VA; KeyW, a wholly owned subsidiary of Jacobs, Severn, MD; Kinnear Cundari Associates (KCA), Alexandria, VA; Kittyhawk.io, San Francisco, CA; Kord Technologies, LLC, Huntsville, AL; Kranze Technology Solutions, Inc., Prospect Heights, IL; L3Harris Advanced Systems & Technologies, Ashburn, VA; L3Harris IAS, Waco, TX; L3Harris Technologies, Lexington Park, MD; Leonardo Helicopters USA Inc., Arlington, VA; LTM INC., Manassas, VA; Lufburrow & Company, Inc., Havre de Grace, MD; MAK Technologies, Orlando, FL; Marvin Engineering Company, Inglewood, CA; McNally Industries, LLC, Grantsburg, WI; MDO Systems Corporation, Annandale, VA; Micro Focus Government Solutions, Vienna, VA; MicroStrategy, Vienna, VA; Mide Technology, Woburn, MA; Mobilestack Inc., Pleasanton, CA; Moog, Inc., East Aurora, NY; Munro & Associates, Inc., Auburn Hills, MI; Mustang Services, LLC, Sealy, TX; n2grate, Greenbelt, MD; NanoflowX, Commerce, CA; Naval Logistics Solutions LLC, California, MD; NDI Engineering Company, Thorofare, NJ; Neany, Inc., California, MD; New England Complex Systems Institute, Cambridge, MA; Nimbus Virga Inc., Forest Hill, MD; NKT Photonics Inc., Boston, MA; Norseman Defense Services, Inc., Elkridge, MD; NuWaves Engineering, Middletown, OH; NX Aviation, Fredericksburg, VA; Octo Consulting Group, Reston, VA; Omni Federal, Gainesville, VA; Open Additive, LLC, Beavercreek, OH; Optensity, Inc., Herndon, VA; Oteemo, Inc., Reston, VA; Oxley Enterprises, Inc., Fredericksburg, VA; Padova Technologies, Glen Burnie, MD; PAE, Arlington, VA; Parraid LLC, Hollywood, MD; Peraton, Inc., Herndon, VA; Perikin Enterprises, LLC, Tullahoma, TN; PESA Switching Systems, Huntsville, AL; PredaSAR Corporation, Boca Raton, FL; Presagis, Orlando, FL; Presidio, Reston, VA; Production Systems Automation, Inc., Duryea, PA; Progeny Systems Corporation, Manassas, VA; Proksi Systems, Bensalem, PA; PteroDynamics Inc., Moorpark, CA; Pyramid Systems, Fairfax, VA; QinetiQ Inc., Lorton, VA; Quantum Applied Science & Research (QUASAR), Inc., San Diego, CA; R Cubed Engineering, LLC, Palmetto, FL; Rackspace Government Solutions, Reston, VA; RadioBro Corporation, Huntsville, AL; Rafael USA, Bethesda, MD; Ramco Systems Corporation, Princeton, NJ; Raytheon Technologies, Waltham, MA; Razorleaf Government Solutions LLC, Akron, OH; Rebellion Defense, LTD., Washington, DC; Redhorse Corporation, San Diego, CA; Render Security Engineering LLC, Lexington Park, MD; Robbins-Gioia, LLC, Alexandria, VA; Rolls-Royce Corporation, Indianapolis, IN; Rolls-Royce PLC, London, ENGLAND; SA Photonics, Inc., Los Gatos, CA; SA-TECH Inc., Oxnard, CA; SCI Technology Inc., Huntsville, AL; SeaLandAire Technologies, Inc., Jackson, MI; SecureCo, Inc., New York, NY; Seiler Instrument, Saint Louis, MO; SGB Enterprises, Santa Clarita, CA; ShadowObjects, LLC, Leonardtown, MD; Shield AI Inc., San Diego, CA; Shift5, Inc., Arlington, VA; Sierra Technical Services, Inc., Tehachapi, CA; SimiGon, Inc., Oviedo, FL; Slalom Consulting, Vienna, VA; Smartronix, LLC, Hollywood, MD; Space Data Corporation, Chandler, AZ; Space Information Laboratories, Santa Maria, CA; SPARC Research LLC, Warrenton, VA; Spark Electric, LLC, Linden, NJ; SPARTON, De Leon Springs, FL; Spectrum Solutions, Inc., Madison, AL; Sphinx Defense, Washington, DC; STAR Dynamics Corporation, Hilliard, OH; Stardog Union, Arlington, VA; STELL, Mountlake Terrace, WA; Swain Online Inc., Horsham, PA; Synergy Software Design, Columbia, MD; Systecon North America, Juno Beach, FL; Systems & Processes Engineering Corporation (SPEC), Austin, TX; Systima Technologies, Inc., Kirkland, WA; Team Carney, Inc., Alexandria, VA; Technology Management Associates, Inc., Chantilly, VA; Technology Unlimited Group, San Diego, CA; TechPort University of Maryland, California, MD; TechTrend, Inc., Fairfax, VA; Tektronix/Fortive Company, Beaverton, OR; TeleDevices, LLC, Duluth, GA; Tetra Tech, Inc., Arlington, VA; The Pennsylvania State University—Applied Research Laboratory, State College, PA; Throughput Bluestreak | Bright AM, Delafield, WI; TMC Design Corporation, Las Cruces, NM; Toyon Research Corporation, Goleta, CA; Tracy A Barkhimer Acquisition Strategies & Consulting, LLC, Scotland, MD; TREALITY SVS, Xenia, OH; Trident Research, Austin, TX; Triton Systems, Inc., Chelmsford, MA; Trusted Science and Technology, Inc., Bethesda, MD; Ultra Electronics—ATS, Austin, TX; Universal Technical Resource Services, Inc., Cherry Hill, NJ; University of Notre Dame, Notre Dame, IN; Valkyrie Enterprises, Virginia Beach, VA; Vana Solutions, Beavercreek, OH; VAST Solutions LLC, Brielle, NJ; VegaMX Inc., New York, NY; Victory Solutions, Inc., Huntsville, AL; VisionThree, LLC, Indianapolis, IN; VOX Aircraft, Chicago, IL; VX Aerospace, Morganton, NC; Wayne Miller Associates, Stanhope, NJ; WhiteFox Defense Technologies, San Luis Obispo, CA; Wind River Systems, Inc., Yardley, PA; Wing Family Companies, Lafayette, CA; WITTENSTEIN motion control, Bartlett, IL; WPI Services, LLC d/b/a Systecon North America, Juno Beach, FL; X-Bow Systems Inc., Albuquerque, NM; XQT LLC, Plymouth, CA; YATO Solutions, Hanford, CA; and ZDEVCO, Oakland, CA, have been added as parties to this venture.

Also, Addx Corporation, Alexandria, VA; Advanced Aircraft Company, Hampton, VA; Advanced Ground Information Systems, Inc., Jupiter, FL; ALEX-Alternative Experts, LLC, Dumfries, VA; Alfresco Software, Inc., Alexandria, VA; Alta Via Consulting, LLC, Alexandria, VA; Apcerto, Ashburn, VA; Applied Technology, Inc., King George, VA; Arrowhead Global, LLC, Clearwater, FL; ART Rugged Systems, Inc., El Dorado Hills, CA; Artisan Electronics, Odon, IN; Berg Manufacturing, Inc., Spokane, WA; Bevilacqua Research Corporation, Huntsville, AL; BiTMICRO Networks, Inc., Fremont, CA; Cambridge International Systems, Inc., Daniel Island, SC; Carolina Unmanned Vehicles, Raleigh, NC; Cintel, Inc., Huntsville, AL; Clear Ridge Defense LLC, Baltimore, MD; CLK Executive Decisions, LLC, Poquoson, VA; Compendium Federal Technology, Lexington Park, MD; CyberX Labs, Waltham, MA; deciBel Research, Inc., Huntsville, AL; Derco Aerospace, a Lockheed Martin Company, Milwaukee, WI; enVention, LLC, Huntsville, AL; Evanhoe & Associates, Inc., Dayton, OH; FGS, LLC, La Plata, MD; G2IT, LLC, Annapolis, MD; General Dynamics Mission Systems, Inc., Fairfax, VA; GenXComm, Inc., Austin, TX; GeoSpark Analytics, Inc., Herndon, VA; Greensight Agronomics, Inc., Boston, MA; HART Technologies, Inc., Manassas, VA; Hitachi Vantara Federal, Reston, VA; Hop Flyt, Lusby, MD; Intevac Photonics, Inc., Santa Clara, CA; KBRwyle, Lexington Park, MD; KnowledgeBridge International Inc., Herndon, VA; Mosaic ATM, Inc., Leesburg, VA; MTEQ, Inc., Lorton, VA; NCI Information Systems, Inc., Reston, VA; Nishati, Inc, Gilbert, AZ; OST, McLean, VA; Pacific Aerospace Consulting, San Diego, CA; Parsons Corporation, Huntsville, AL; Petascale Computing & Fabrication, Glenelg, MD; PreTalen, Ltd., Beavercreek, OH; Priority 5 Holdings, Inc., Needham, MA; Raytheon Company, Waltham, MA; REDCOM Laboratories, Inc., Victor, NY; SAP, Washington, DC; Science and Engineering Services LLC, California, MD; Silver Palm Technologies, Ijamsville, MD; Solers, Inc., Arlington, VA; Stryke Industries, LLC, Fort Wayne, IN; Technica Corporation, Dulles, VA; The Patuxent Partnership, Lexington Park, MD; Thomas Global Systems, Irvine, CA; Trifacta, Towson, MD; Trinary Software, Los Angeles, CA; Valour, LLC, Lexington Park, MD; VES, LLC, Aberdeen Proving Ground, MD; Visionary Business Solutions, LLC, Merchantville, NJ; Vyalex Management Solutions, Inc., Columbia, MD; and Wireless Research Center of North Carolina, Wake Forest, NC, have withdrawn as parties to this venture.

No other changes have been made in either the membership or planned activity of the group research project. Membership in this group research project remains open, and NASC intends to file additional written notifications disclosing all changes in membership.

On October 24, 2019, NASC filed its original notification pursuant to Section 6(a) of the Act. The Department of Justice published a notice in the Federal Register pursuant to Section 6(b) of the Act on December 11, 2019 (84 FR 67755).

Suzanne Morris,
Chief, Premerger and Division Statistics, Antitrust Division.

[FR Doc. 2021-18033 Filed 8-20-21; 8:45 am]

BILLING CODE P